DEPARTMENT OF HEALTH AND HUMAN SERVICES

Indian Health Service

Children and Youth Initiative

AGENCY: Indian Health Service, HHS.

ACTION: Notice of Availability of Funds for Competitive Grants for Youth Initiatives: Health promotion, intentional and unintentional injury prevention, youth wellness, recreation and education, and mentoring programs for American Indian and Alaska Native (AI/AN) youth.

SUMMARY: The Indian Health Service (IHS) announces the availability of approximately $700,000 for competitive grants established under the authority of section 301(a) of the Public Health Service Act, as amended, to be awarded to Tribal, Urban and nonprofit Indian organizations for the support of AI/AN youth. There will be only one funding cycle during Fiscal Year (FY) 2003 (see Fund Availability and Period of Support). This program is described in the Catalog of Federal Domestic Assistance at 93.933. Executive Order 12372, which requires intergovernmental review, is not applicable to this program.

The Public Health Service (PHS) is committed to achieving the health promotion and disease prevention objectives of Healthy People 2010 a PHS led activity for setting priority areas. Potential applicants may obtain a printed copy of Healthy People 2010, (Summary Report No. 017-001-00549-5) or CD-ROM, Stock No. 017-001-00549-5, through the Superintendent of Documents, Government Printing Office, P.O. Box 371954, Pittsburgh, PA 15250-7945, (202) 512-1800. You may also access this information at the following Web site: http://www.health.gov/healthpeople/publication.

Projects will be included in one of two categories: (1) Services assessment, which may include the demographics of Native American children and youth between the ages of 5 and 19, the development of a survey tool of youth services and needs, or the development of assessment tools or interdisciplinary teams; or (2) direct services with a prevention component, which may include the forming of children and youth-specific clinics/services/programs/camps/before and after school programs/recreation programs/programs for at risk youth with an injury prevention focus and/or the fostering of traditional values as well as family and intergenerational activities. This may involve children and youth with special needs, particularly at risk populations such as detained or incarcerated youth, or aftercare for youth in residential treatment programs.

Smoke-Free Workplace: The PHS strongly encourages all grant recipients to provide a smoke-free workplace and promote the non-use of all tobacco products. This is consistent with the PHS mission to protect and advance the physical and mental health of the American people.

Due Date: An original and two copies of the completed grant application must be submitted with all required documentation, to the Grants Management Branch, Division of Acquisition and Grants Management, 801 Thompson Avenue, Suite 120, Rockville, MD 20852, by 5 p.m., Eastern Standard Time, on May 15, 2003.

Applications shall be considered as meeting the deadline if they are either: (1) Received on or before the deadline, with hand carried applications received by 5 p.m.; or (2) postmarked on or before the deadline date and received in time to be reviewed along with all other timely applications. A legibly dated receipt from a commercial carrier or the U.S. Postal Service will be accepted as proof of timely mailing. Private metered postmarks will not be accepted as proof of timely mailing. Applications received after the announced closing date will be returned to the applicants and will not be considered for funding.

Additional Dates:

(a) Application Review Date: June 19, 2003.

(b) Applicants Notified of Results (approved, approved unfunded, or disapproved): June 26, 2003.

(c) Anticipated Start Date: July 1, 2003.

Contacts for Assistance: For program information, contact Judith Thierry, D.O., Maternal and Child Health Coordinator, Office of Public Health, IHS, 801 Thompson Avenue, Suite 120, Rockville, Maryland, 20852; (301) 443-5070; jthierry@hqe.ihs.gov; or (301) 443-0114 (fax). For grant application and business information, contact Ms. Martha Redhouse, Grants Management Specialist, Grants Management Branch, Division of Acquisition and Grants Management, IHS, 801 Thompson Avenue, Suite 120, Rockville, MD 20852; (301) 443-5204. (The telephone numbers for Dr. Thierry and Ms. Redhouse are not toll-free.)

SUPPLEMENTARY INFORMATION: This announcement provides information on the general program goal, eligibility and documentation requirements, programmatic activities, funding availability, period of support, and application procedures.

General Program Goals: The goals are to support youth health promotion and wellness programs; to aid in the risk reduction of injuries, early morbidity, and premature mortality from injuries; to aid in the risk reduction of alcohol, tobacco, inhalant and substance abuse; to support a healthy learning environment and staying in school; and to support communities oriented to AI/AN children and youth, and their families. Injury coalitions, recreational programs and/or multidisciplinary evaluation and treatment teams will be considered for these communities. Another, non-exclusive goal is to survey and assess youth or youth programs to better define community needs and consider a plan of action.

Eligibility and Documentation Requirements: Any federally recognized Indian tribe, Indian Tribal organization, 501(c)(3) nonprofit organization including faith-based organizations serving primarily AI/AN is eligible to apply for a demonstration grant from the IHS under this announcement.

Documentation of Support:

(a) Tribal Resolutions

(1) A resolution of the Tribe or Tribal organization supporting this specific project must accompany the application submission.

(2) Applications that propose services to benefit more than one Tribe must include resolutions from all Tribes to be served.

(3) Applications from Tribal organizations will not require resolution(s) if the current, operational Tribal resolution(s) encompasses the proposed grant activities. A statement of proof or a copy of the current operational resolution must accompany the application.

(4) If a resolution or a statement is not submitted, the application will be considered incomplete and will be returned without consideration.

(b) Nonprofit organizations must submit a copy of the 501(c) (3) Certificate;

(c) Letters of Cooperation/Collaboration/Assistance

(1) Letters included in the application should be specific to this program.

(2) If other related human services programs are to be involved in the project, letters confirming the nature and extent of their cooperation/collaboration/assistance must be submitted. Indicate if matching funds, cost sharing or in-kind services will be applied.

Project Types:

(a) Demographic projects will identify the health and demographic characteristics of the AI/AN child and youth populations. Inclusion of children and youth with special needs and special populations, i.e., incarcerated youth, must be addressed. The mapping must report the availability of health care and related community services, schools, and after-school programs, including the location of facilities and availability of transportation; socio-economic factors as revealed by the latest U.S. Census date; and selected health data from the IHS computerized, online database of patients' medical records. The Geographic Information System (GIS) is preferred. A project may also involve the search for and/or the development of a survey tool and the methodology to identify youth services and needs, particularly as they pertain to suicide and injury prevention.

(b) The development of teen-specific clinics/programs (e.g., a multidisciplinary clinic for the diagnosis and assessment of special needs or chronic diseases, recreation and wellness programs with content in injury prevention, and case management for at-risk youth) are fitting under this grant. Programs that focus on children and youth abuse/neglect and sexual abuse awareness, prevention, and treatment are also appropriate. The assembling, training and using of interdisciplinary teams for the assessment of children and youth (including assessment and management or case management), or for the risk stratification of children and youth for disease/disability (injury) prevention, health maintenance, improved socialization, and maximization of their learning may also be included in this grant proposal.

(c) The education of children and youth, and their communities and their families, is part of the IHS effort to promote awareness of the particular needs of children and youth.

Therefore, proposed projects may plan, execute and demonstrate strategies that incorporate pamphlets, books, workbooks, posters, modules or training sessions, audio, video, educational television network programming, or other media presentations aimed either at the consumer and/or the supporter of youth initiatives.

Fund Availability and Period of Support: In FY 2003 it is anticipated that approximately $700,000 will be available to support five to ten projects at approximately $40,000 to $60,000 each, and 10 to 20 projects at approximately $5,000 to $15,000 each, inclusive of direct and indirect costs. Projects may be funded in annual budget periods for up to three years, depending on the defined scope of work. Continuation of projects will be based on the availability of appropriations in future years, the continuing need the IHS has for the projects, and satisfactory project performance. The anticipated start date is July 1, 2003.

The Child and Youth Initiative Grant Application Kit: An IHS Grant Application Kit, including form PHS 5161-1 (rev. 07/00), may be obtained from the Grants Management Branch, Division of Acquisition and Grants Management, Reyes Building, Suite 120, 801 Thompson Avenue, Rockville, MD 20852. The telephone number is (301) 443-5204.

Factors for Consideration in Preparing the Application:

(a) Follow the outline provided in the announcement as a guide in preparing the application to facilitate the reviewers' ability to find the required information.

(b) Demonstrate how the project will be coordinated with other agencies and organization inside and outside the community that serves the targeted population. Where possible, indicate the use of volunteers, community resources, and family involvement.

(c) Consider Tribal cultural aspects in your program design.

Application Process: All applications must be typewritten and single-spaced, using consecutively numbered pages on one side of standard-sized on 8½″ x 11″ paper that can be photocopied. The typeface should be black and no smaller than 12 characters per inch in size. The pages should have conventional one inch border margins. The narrative must not exceed 10 typed pages. An additional page may be used for each additional year of funding requested. Excluded from the 10 page limit are the Abstract, Tribal Resolutions(s), 501(c)(3) Nonprofit Certificate, Letters of Documentation or Support, Standard Forms, Table of Contents, and Appendix.

All applications must include the following, in the order presented:

(a) Tribal Resolution(s) and Documentation or 501(c)(3) Certification.

(b) Standard Form 424, Application for Federal Assistance.

(c) Standard Form 424A, Budget Information—Non-Construction Programs (pages 1 and 2).

(d) Standard Form 424B, Assurances—Non-Construction Programs (front and back).

(e) Checklist (pages 25-26) Note: each standard form and the checklist is contained in the PHS Grant Application, Form PHS 5161-1 (Rev. 07/00).

(f) A Project Abstract (may not exceed one typewritten page), which should present a summary view of “who-what-when-where-how-cost” to determine acceptability for review.

(g) A table of contents to correspond with numbered pages.

(h) Project Narrative (10 Pages).

(1) Introduction and Need for Assistance.

(2) Project Objective(s), Approach, and Results and Benefits.

(3) Project Evaluation.

(4) Organizational Capabilities and Qualifications.

(5) Budget.

(i) Appendix to include:

(1) Resumes of key staff.

(2) Position descriptions for key staff.

(3) Organizational chart.

(4) Documentation of current certified financial management systems.

(5) Copy of current negotiated indirect cost rate agreement.

(6) A map of the area to benefit from the project.

(7) Application Receipt Card, IHS-815-1A (Rev. 4/97).

(a) Narrative

The narrative section of the application must include the following:

(1) Justification for the need for assistance;

(2) A work plan (including use of appropriate native healing practices), program objectives, approach, expected results, and evaluation process;

(3) Adequacy of management controls; and

(4) Key personnel.

The work plan section should be project-specific. These instructions for the preparation of the narrative are to be used in lieu of the instructions on page 21 of the PHS 5161-1. The narrative section should be written in a manner that is clear to outside reviewers unfamiliar with prior related activities of the applicant. It should be well organized, succinct, and contain all information necessary for reviewers to understand the project fully. The narrative may not exceed ten single-spaced pages, excluding attachments, budget and Tribal Resolutions/501(c)(3), and nonprofit certificates/letters of support (pages must be numbered).

(b) Need for Assistance.

(1) Describe and define the target population at the project location (e.g., Tribal population, number of children and/or youth, data from a previous community needs assessment). Information sources must be appropriately identified.

(2) Describe the existing resources and services available, including the maintenance of Native healing systems, where appropriate, which are related to the specific program/service the applicant is proposing to provide. Supply the name, address, and phone number of a contact person for each.

(3) Describe in detail the needs of the target population and what efforts have been made in the past to meet these needs, collaborative efforts with State/county programs, and availability of program funding from Federal/non-Federal sources).

(4) Summarize the applicable national, IHS, and/or State standards, laws and regulations, such as those in the arenas of safety, school attendance, and child welfare.

(c) Work Plan.

(1) Project Objectives.

(i) State concisely the objectives of the project.

(ii) Describe briefly what the project intends to accomplish.

(iii) Describe how the accomplishment of the objectives will be measured (including if the accomplishments are replicable).

(2) Approach.

(i) Describe the tasks and resources needed to implement and complete this project.

(ii) Provide a task time line (milestones) breakdown or chart. Include the date that the project will begin to accept clients (if applicable).

(3) Expected Results.

(i) Discuss data collection for the project, and how it will be obtained, analyzed, and maintained by the project. Data should include, but is not limited to, the number of children and youth served, services provided, program outcomes and satisfaction, and costs associated with the program.

(ii) Describe how the data collection will support the stated project objectives and how it will support the project evaluation in order to determine the impact of the project.

(4) Project Evaluation.

(i) Describe the methods for evaluating the project activities, effectiveness of interventions, success in achieving objectives, impact of interventions, acceptance by the targeted population (focus groups and customer surveys), and workload accomplishments.

(ii) Identify who will conduct the evaluation of the projected outcomes and when the evaluation is to be completed.

(iii) Identify the cost of the evaluation (whether internal or external).

(5) Project Continuance. Discuss how the project services will be continued after the grant expires.

(6) Experience Sharing. Indicate the project personnel's willingness to share the project experience with IHS Areas, urban programs, Tribes, and other Tribal organizations.

(d) Adequacy of Management Controls.

(1) Describe where the project will be housed, i.e., facilities and equipment available.

(2) Describe the management controls of the grantee over the direction and acceptability of the work to be performed. Discuss the personnel and financial systems in place and any changes planned for this grant.

(3) Demonstrate that the organization has adequate systems and expertise to manage Federal funds. Include a letter from the organization's accounting firm describing the results of the most recent organization-wide audit.

(e) Key Personnel.

(1) Provide a biographical sketch (qualifications) and position description for the program director and other key personnel as described on page 22 of the PHS 5161-1. Identify existing personnel and new program staff to be hired.

(2) Provide an organizational chart, and indicate how the project will operate within the organization. Describe how this project will interface with other existing available resources.

(3) List the qualifications and experience of consultants or contractors where their use is anticipated. Identify who will determine if the work of a contractor is acceptable.

(f) Budget.

(1) Provide an itemized estimate of costs and a justification for the proposed project by line item on Form SF 424A. Budget Information Non-Construction Programs.

(2) Submit a narrative justification for all costs. Indicate needs by listing the individual items and quantities necessary. The need for these items and the corresponding quantities should be clearly specified in the narrative justification.

(3) Indicate any special start-up costs.

(4) Multi-Year Project—Projects requiring two or three years or funding. Include a brief project narrative and budget for each additional year of funding requested. The applicant may use one additional page to describe the developmental plans for each additional year of the project.

(5) Grant funding may not be used to supplant existing public and private resources.

(g) Assurances. The application shall contain an assurance to the Secretary that the applicant will comply with program regulations 42 CFR part 36, subpart H.

Review Process: Applications meeting eligibility requirements that are complete, responsive, and conform to this program announcement will be reviewed for merit by reviewers appointed by the IHS. The review will be conducted in accordance with PHS review procedures. The review process ensures selection of quality projects in a national competition for limited funding. Applications will be evaluated and rated on the basis of the evaluation criteria listed below. These criteria are used to evaluate the quality of a proposed project, to assign a numerical score to each application, and to determine the likelihood of the project's success. Applications scoring below 60 points will not be funded.

Evaluation Criteria: Applications will be evaluated against the following criteria and weights:

Weight, Criteria, and Description

25%—1 Need—The demonstration of identified problems and risks in the target population. Extent of community involvement and commitment.

40%—2 Work Plan—The soundness and effectiveness of the applicant's plan for conducting the project, with special emphasis on the objectives and methodology portions of the application.

15%—3 Adequacy of Management Controls—The apparent capability of the applicant to successfully conduct the project, including both technical and business aspects. The soundness of the applicant's budget in relation to the project work plan and for ensuring effective utilization of grant funds. Adequacy of facilities and equipment available within the organization or proposed for purchase under the project.

10%—4 Key Personnel—Qualifications and adequacy of the staff.

10%—5 Budget—Clarity and accuracy of project costs, and cost justification for the entire grant period.

100%—Total Weight.

Reporting Requirements:

(1) Progress Report—Project progress reports will be required semiannually by March 30 and September 30 of each funding year. These reports will include a brief description comparing the actual accomplishments to the goals established for the period; the reasons for slippage, if applicable, and other pertinent information as required. A final report is due 90 days after expiration of the project/budget period.

(2) Financial Status Report—A semiannual financial status report will be submitted 30 days after the end of the half-year point of each funding year. Final financial status reports are due 90 days after expiration of the project/budget period. Standard Form 269 (long form) will be used for financial reporting.

Grant Administration Requirements: grants are administered in accordance with the following documents:

(1) 45 CFR part 92. Department of Health and Human Services, Uniform Administrative Requirements for Grants and Cooperative Agreements to State and Local Governments, or 45 CFR part 74, Administration of Grants to Non-profit Recipients.

(2) Public Health Service Grants Policy Statement, and

(3) Appropriate Cost Principles: OMB Circular A-87, State and Local Governments, or OMB Circular A-122, Nonprofit Organizations.

Results of the Review: Successful applicants will be notified through official Notice of Grant Award (NGA) documents. The NGA will state the amount of Federal funds awarded, the purpose of the grant, the terms and conditions of the grant award, the effective date of the award, the project period, and the budget period.

Dated: March 13, 2003.
Charles W. Grim,
Assistant Surgeon General, Interim Director, Indian Health Service.

[FR Doc. 03-6509 Filed 3-18-03; 8:45 am]

BILLING CODE 4160-16-M